DEPARTMENT OF ENERGY

Federal Energy Regulatory Commission

[Docket No. EL02-114-000]

Portland General Electric Company, Enron Power Marketing, Inc.; Notice of Initiation of Proceeding and Refund Effective Date

August 13, 2002.

Take notice that on August 13, 2002, the Commission issued an order in the above-indicated docket initiating a proceeding in Docket No. EL02-114-000 under section 206 of the Federal Power Act.

The refund effective date in Docket No. EL02-114-000 will be 60 days after publication of this notice in the Federal Register.

Linwood A. Watson, Jr.,
Deputy Secretary.

[FR Doc. 02-20984 Filed 8-15-02; 8:45 am]

BILLING CODE 6717-01-P